DEPARTMENT OF TRANSPORTATION

Federal Railroad Administration

[Docket Number FRA-2019-0096]

Petition for Waiver of Compliance

Under part 211 of title 49 Code of Federal Regulations (CFR), this document provides the public notice that on October 30, 2019, the National Railroad Passenger Corporation (Amtrak) petitioned the Federal Railroad Administration (FRA) for a waiver of compliance from certain provisions of the Federal railroad safety regulations contained at 49 CFR part 238. FRA assigned the petition Docket Number FRA-2019-0096.

Specifically, Amtrak has petitioned FRA for a waiver from the requirements of 49 CFR 238.111(a), pre-revenue service acceptance testing, for Siemens Charger locomotives, ALC-42 variants included, to operate across the entirety of Amtrak's operating network. Following FRA's correspondence to Amtrak dated May 16, 2019, Amtrak began to perform a select number of SC-44 Charger performance tests on several long-distance network routes. Results have been generally positive thus far with a low number of correctional recommendations sent back to the Original Equipment Manufacturer (OEM). Amtrak intends to perform additional SC-44 testing in 2020 to further validate the Charger platform in a long-distance environment prior to receiving ALC-42 deliveries.

Since the receipt of FRA's May 16, 2019 correspondence, Amtrak has also provided to FRA the entirety of the design documentation received to date from Siemens for the ALC-42 procurement. Most of these ALC-42 preliminary design review documents are the SC-44 final design documents. These include designs of the suspension system, wheel profile, crash energy management, fuel tank, and other car body drawings. Further, no changes to the dimensions or car body profile of the locomotive will vary between the ALC-42 or the SC-44. The ALC-42 will have a minimal (<0.5%) empty weight variance due to different internal components such as head-end power (HEP) transformer and cab signal, and a minimal (<2.0%) loaded gross weight variance due to increased fuel/diesel exhaust fluid (DEF)/sand capacity than the SC-44. Amtrak states these small weight variances reside below the floor and therefore should have negligible effect from low center of gravity. The other notable differences between the two platform versions will reside within the cab (additional positive train control systems, screen interfaces) and inside the engine room (different fuel filtration, HEP inverter, brake grid, etc.).

Based on the above and the Charger platform testing that has been performed to date, Amtrak requests a waiver from the requirements of 49 CFR 238.111(a) testing for Siemens Charger locomotives, ALC-42 variants included.

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by February 24, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2020-00231 Filed 1-9-20; 8:45 am]

BILLING CODE 4910-06-P